DEPARTMENT OF THE INTERIOR

Bureau of Indian Affairs

Notice of Intent to Prepare an Environmental Impact Statement for the proposed Moapa Paiute Power Generating Station and Associated Facilities, Moapa Indian Reservation, Clark County, Nevada

AGENCY: Bureau of Indian Affairs, Interior.

ACTION: Notice; extension of public comment period and additional public meetings.

SUMMARY: This notice advises the public that the closing date of the public comment period on the scope and implementation of an Environmental Impact Statement (EIS) for the proposed Moapa Paiute Power Generating Station and Associated Facilities (previously referred to as the Crystal Power Generating Station * * * .) announced in the Federal Register on Wednesday, July 19, 2000, (FR 44806-44807) has been extended from August 18, 2000, to October 1, 2000. In addition, two more public scoping meetings will be held on the content of the EIS. The Bureau of Indian Affairs also wishes to announce that the Bureau of Land Management will be a cooperating agency in the preparation of the EIS. All other information in the earlier notice remains the same.

DATES: Comments on the scope and implementation of this proposal must arrive by October 1, 2000. The public scoping meetings will be held on September 19, 2000, from 6:00 p.m. to 8:00 p.m., and September 20, 2000, from 6:00 p.m. to 8:00 p.m.

ADDRESSES: You may mail or hand carry written comments to either (1) Amy L. Heuslein, Regional Environmental Protection Officer, Western Regional Office, Bureau of Indian Affairs, Environmental Quality Services, P.O. Box 10, Phoenix, Arizona 85001, Telephone (602) 379-6750 or Telefax (602) 379-3833, or (2) Deborah Hamlin, Realty Specialist, Southern Paiute Field Station, P.O. Box 720, St. George, Utah 84771, Telephone (435) 674-9720 or Telefax (435) 674-9714.

The September 19, 2000, public scoping meeting will be held at the Tribal Hall, Number 1 Lincoln Street, Moapa Indian Reservation, Moapa, Nevada. The September 20, 2000, public scoping meeting will be held in the First Floor Conference Room of the North Las Vegas Airport, 2730 Airport Drive, North Las Vegas, NV 89032.

FOR FURTHER INFORMATION CONTACT: Amy L Heuslein, (602) 379-6750 or Deborah Hamlin, (435) 674-9720.

SUPPLEMENTARY INFORMATION: This notice is published pursuant to Section 1503.1 of the Council of Environmental Quality Regulations (40 CFR, Parts 1500 through 1508) implementing the procedural requirements of the National Environmental Policy Act of 1969, as amended (42 U.S.C. 437 et seq.) Department of the Interior Manual (510 DM1-7) and is in the exercise of authority delegated to the Assistant Secretary—Indian Affairs by 209 DM 8.

Public Comment Solicitation

Interested persons may submit written comments regarding the scope and implementation of an Environmental Impact Statement (EIS) for the proposed Moapa Paiute Power Generating Station and Associated Facilities to the location identified in the ADDRESSES section of this document. You may also comment via the Internet to AmyHeuslein@bia.gov or DeborahHamlin@bia.gov. Please submit Internet comments as an ASCII file, avoiding the use of special characters and any form of encryption. If you do not receive confirmation from the system that your message was received, contact us directly at (602) 379-6750 or (435) 674-9720, respectively.

Comments, including the names and home addresses of respondents will be available for public review at the above addresses during regular business hours, 8:00 a.m. to 4:30 p.m. Monday through Friday, except holidays. Individual respondents may request confidentiality. If you wish us to withhold your name and/or your address from public review or from disclosure under the Freedom of Information Act, you must state this prominently at the beginning of your written comment. Such requests will be honored to the extent allowed by law. We will not, however, consider anonymous comments. All submissions from organizations or businesses, and from individuals representing themselves as representatives or officials of organizations or businesses, will be made available for public inspection in their entirety.

Dated: August 25, 2000.
Kevin Gover,
Assistant Secretary—Indian Affairs.

[FR Doc. 00-22275 Filed 8-30-00; 8:45 am]

BILLING CODE 4310-02-P